DEPARTMENT OF TRANSPORTATION

Federal Aviation Administration

14 CFR Part 39

[Docket No. FAA-2007-28371; Directorate Identifier 2007-NM-040-AD]

RIN 2120-AA64

Airworthiness Directives; Bombardier Model DHC-8-102, -103, -106, -201, -202, -301, -311, and -315 Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

[A] roll spoiler cable failure could result in an unacceptable amount of roll spoiler deflection, which could result in reduced controllability of the aircraft.

The proposed AD would require actions that are intended to address the unsafe condition described in the MCAI.

DATES: We must receive comments on this proposed AD by July 11, 2007.

ADDRESSES: You may send comments by any of the following methods:

• DOT Docket Web Site: Go to http://dms.dot.gov and follow the instructions for sending your comments electronically.

• Fax: (202) 493-2251.

• Mail: Docket Management Facility, U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: http://www.regulations.gov. Follow the instructions for submitting comments.

Examining the AD Docket

You may examine the AD docket on the Internet at http://dms.dot.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Ezra Sasson, Aerospace Engineer, Systems and Flight Test Branch, ANE-172, FAA, New York Aircraft Certification Office, 1600 Stewart Avenue, Suite 410, Westbury, New York 11590; telephone (516) 228-7320; fax (516) 794-5531.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This proposed AD references the MCAI and related service information that we considered in forming the engineering basis to correct the unsafe condition. The proposed AD contains text copied from the MCAI and for this reason might not follow our plain language principles.

Comments Invited

We invite you to send any written relevant data, views, or arguments about this proposed AD. Send your comments to an address listed under the ADDRESSES section. Include “Docket No. FAA-2007-28371; Directorate Identifier 2007-NM-040-AD” at the beginning of your comments. We specifically invite comments on the overall regulatory, economic, environmental, and energy aspects of this proposed AD. We will consider all comments received by the closing date and may amend this proposed AD based on those comments.

We will post all comments we receive, without change, to http://dms.dot.gov, including any personal information you provide. We will also post a report summarizing each substantive verbal contact we receive about this proposed AD.

Discussion

Transport Canada Civil Aviation (TCCA), which is the aviation authority for Canada, has issued Canadian Airworthiness Directive CF-2006-13, dated June 6, 2006 (referred to after this as “the MCAI”), to correct an unsafe condition for the specified products. The MCAI states:

It has been identified that a roll spoiler cable failure could result in an unacceptable amount of roll spoiler deflection, which could result in reduced controllability of the aircraft. To address this condition, Modsum 8Q100898 has been issued to introduce a spoiler cable disconnect sensing device. This modification has been installed in production on aircraft serial numbers 562 and subsequent. An associated operational check has also been introduced (See Note 1 [of the MCAI]).

In addition, Modsum 8Q101443 has been issued to address a potential spoiler cable interference condition on aircraft serial numbers 003 through 123, 125 through 130, 132 through 136, 138 and 139, which do not yet have a spoiler cable tension regulator (Mod[ification] 8/0708) installed.

Following incorporation of the spoiler cable disconnect sensing device on several aircraft, it was noted that, in the event of a spoiler cable failure, only the ROLL SPLR INBD HYD caution light will be illuminated until the aircraft speed decreases below 135 kts (knots), at which time the ROLL SPLR OUTBD HYD caution light will also be illuminated. Modsum 8Q101445 has been issued to rework the sensing circuit caution light indication to ensure that it is consistent for spoiler cable disconnects above and below 135 kts. This modification has been installed in production on aircraft serial numbers 600 and subsequent.

The corrective action includes installing a spoiler cable disconnect sensing device; correcting a potential spoiler cable interference condition; and reworking the spoiler cable disconnect sensing circuit; as applicable. You may obtain further information by examining the MCAI in the AD docket.

Relevant Service Information

Bombardier has issued Service Bulletins 8-27-89, Revision ‘E,’ dated January 27, 2005; and 8-27-103, Revision ‘B,’ dated January 24, 2007. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 166 products of U.S. registry. We also estimate that it would take about 13 work-hours per product to comply with the basic requirements of this proposed AD. The average labor rate is $80 per work-hour. Required parts would cost about $1,000 per product. Where the service information lists required parts costs that are covered under warranty, we have assumed that there will be no charge for these costs. As we do not control warranty coverage for affected parties, some parties may incur costs higher than estimated here. Based on these figures, we estimate the cost of the proposed AD on U.S. operators to be $338,640, or $2,040 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Bombardier, Inc.: Docket No. FAA-2007-28371; Directorate Identifier 2007-NM-040-AD.

Comments Due Date

(a) We must receive comments by July 11, 2007.

Affected ADs

(b) None.

Applicability

(c) This AD applies to Bombardier Model DHC-8-102, -103, -106, -201, -202, -301, -311, and -315 airplanes; certificated in any category; serial numbers 003 through 599.

Subject

(d) Flight controls.

Reason

(e) The mandatory continuing airworthiness information (MCAI) states:

It has been identified that a roll spoiler cable failure could result in an unacceptable amount of roll spoiler deflection, which could result in reduced controllability of the aircraft. To address this condition, Modsum 8Q100898 has been issued to introduce a spoiler cable disconnect sensing device. This modification has been installed in production on aircraft serial numbers 562 and subsequent. An associated operational check has also been introduced (See Note 1 [of the MCAI]).

In addition, Modsum 8Q101443 has been issued to address a potential spoiler cable interference condition on aircraft serial numbers 003 through 123, 125 through 130, 132 through 136, 138 and 139, which do not yet have a spoiler cable tension regulator (Mod[ification] 8/0708) installed.

Following incorporation of the spoiler cable disconnect sensing device on several aircraft, it was noted that, in the event of a spoiler cable failure, only the ROLL SPLR INBD HYD caution light will be illuminated until the aircraft speed decreases below 135 kts (knots), at which time the ROLL SPLR OUTBD HYD caution light will also be illuminated. Modsum 8Q101445 has been issued to rework the sensing circuit caution light indication to ensure that it is consistent for spoiler cable disconnects above and below 135 kts. This modification has been installed in production on aircraft serial numbers 600 and subsequent.

The corrective action includes installing a spoiler cable disconnect sensing device; correcting a potential spoiler cable interference condition; and reworking the spoiler cable disconnect sensing circuit; as applicable.

Actions and Compliance

(f) Within 24 months after the effective date of this AD unless already done, do the following actions.

(1) Applicable to airplane serial numbers 124, 131, 137, and 140 through 561: Incorporate Modsum 8Q100898 to install the spoiler cable disconnect sensing device. Bombardier Service Bulletin 8-27-89, Revision “E,” dated January 27, 2005, provides approved instructions for incorporating Modsum 8Q100898. (See paragraph (f)(4) of this AD.)

(2) Applicable to airplane serial numbers 003 through 123, 125 through 130, 132 through 136, 138, and 139: Incorporate Modsums 8Q100898 and 8Q101443 to install the spoiler cable disconnect sensing device and to correct potential spoiler cable interference condition. Bombardier Service Bulletin 8-27-89, Revision “E,” dated January 27, 2005, provides approved instructions for incorporating Modsums 8Q100898 and 8Q101443. (See paragraphs (f)(4) and (f)(5) of this AD.)

(3) Applicable to airplane serial numbers 003 thorough 599: Incorporate Modsum 8Q101445 to rework the spoiler cable disconnect sensing circuit. Bombardier Service Bulletin 8-27-103, Revision “B,” dated January 24, 2007, provides approved instructions for incorporating Modsum 8Q101445. (See paragraph (f)(6) of this AD.) If Modsum 8Q100898 has not yet been incorporated, incorporate Modsum 8Q101445 in conjunction with Modsum 8Q100898. Refer to paragraph (f)(1) or (f)(2) of this AD, as applicable.

Note 1: The mandatory operational check requirement for the spoiler cable disconnect system (Modsum 8Q100898) is detailed in Task Number 2760/14, dated November 21, 2003, of Part 2 of the applicable de Havilland Dash 8 Maintenance Program Manual (MPM), Airworthiness Limitations (AWL). It was introduced by de Havilland Dash 8 Temporary Revisions AWL-88 (series 100), AWL 2-28 (series 200), and AWL 3-95 (series 300), all dated August 5, 2004. Temporary Revision AWL-88 (Task Number 2760/14) has since been incorporated in Revision 17, dated April 19, 2005, of Part 2 of the AWLs of the MPM for Model DHC-8-100 series airplanes.

(4) Installation of Modsum 8Q100898, in accordance with Bombardier Service Bulletin 8-27-89, dated January 31, 2002; Revision “A,” dated September 10, 2002; Revision “B,” dated November 17, 2003; Revision “C,” dated March 10, 2004; or Revision “D,” dated June 29, 2004; also meets the requirements of paragraphs (f)(1) and (f)(2) of this AD.

(5) Installation of Modsum 8Q101443, in accordance with Bombardier Service Bulletin 8-27-89, Revision “C,” dated March 10, 2004; or Revision “D,” dated June 29, 2004; also meets the requirements of paragraph (f)(2) of this AD for this particular Modsum.

(6) Installation of Modsum 8Q101445, in accordance with Bombardier Service Bulletin 8-27-103, dated November 5, 2003; or Revision “A,” dated February 12, 2004; also meets the requirements of paragraph (f)(3) of this AD.

FAA AD Differences

Note: This AD differs from the MCAI and/ or service information as follows: No differences.

Other FAA AD Provisions

(g) The following provisions also apply to this AD:

(1) Alternative Methods of Compliance (AMOCs): The Manager, New York Aircraft Certification Office (ACO), FAA, has the authority to approve AMOCs for this AD, if requested using the procedures found in 14 CFR 39.19. Send information to ATTN: Ezra Sasson, Aerospace Engineer; New York ACO, FAA, 1600 Stewart Avenue, Suite 410, Westbury, New York 11590; telephone (516) 228-7320; fax (516) 794-5531. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI Canadian Airworthiness Directive CF-2006-13, dated June 6, 2006; Bombardier Service Bulletin 8-27-89, Revision “E,” dated January 27, 2005; and Bombardier Service Bulletin 8-27-103, Revision “B,” dated January 24, 2007; for related information.

Issued in Renton, Washington, on June 1, 2007.
Ali Bahrami,
Manager, Transport Airplane Directorate, Aircraft Certification Service.

[FR Doc. E7-11199 Filed 6-8-07; 8:45 am]

BILLING CODE 4910-13-P